DEPARTMENT OF ENERGY

Federal Energy Regulatory Commission

Combined Notice of Filings #1

June 03, 2009.

Take notice that the Commission received the following electric rate filings:

Docket Numbers: ER09-369-001.

Applicants: PJM Interconnection, LLC.

Description: PJM Interconnection, LLC submits Substitute Sixth Revised Sheet 374 et al. to FERC Electric Tariff, Sixth Revised Volume 1.

Filed Date: 06/01/2009.

Accession Number: 20090603-0043.

Comment Date: 5 p.m. Eastern Time on Monday, June 22, 2009.

Docket Numbers: ER09-412-005.

Applicants: PJM Interconnection, LLC.

Description: PJM Interconnection, LLC submits revisions to the PJM Open Access Transmission Tariff to incorporate changes directed by the May 1 Order.

Filed Date: 06/01/2009.

Accession Number: 20090603-0098.

Comment Date: 5 p.m. Eastern Time on Monday, June 22, 2009.

Docket Numbers: ER09-1007-001.

Applicants: Westar Energy, Inc.

Description: Westar Energy, Inc. submits Substitute Original Sheet 36, Rate Schedule FERC No 317 to be effective 6/15/09.

Filed Date: 06/01/2009.

Accession Number: 20090603-0099.

Comment Date: 5 p.m. Eastern Time on Monday, June 22, 2009.

Docket Numbers: ER09-1075-002.

Applicants: Falcon Energy, LLC.

Description: Falcon Energy, LLC submits an Amended, Revised and Restated Application for Market-Based Rate Authorization and Request for Waivers and Blanket Authorizations and Request for Expedited Treatment.

Filed Date: 06/01/2009.

Accession Number: 20090603-0044.

Comment Date: 5 p.m. Eastern Time on Monday, June 22, 2009.

Docket Numbers: ER09-1242-000.

Applicants: Southwest Power Pool, Inc.

Description: Southwest Power Pool, Inc. submits an executed Large Generator Interconnection Agreement with Public Service Company of Oklahoma etc.

Filed Date: 06/01/2009.

Accession Number: 20090602-0089.

Comment Date: 5 p.m. Eastern Time on Monday, June 22, 2009.

Docket Numbers: ER09-1244-000.

Applicants: Westar Energy, Inc.

Description: Westar Energy, Inc. submits Original Sheet 1 et al. to Fourth Revised Rate Schedule FERC 300 et al.

Filed Date: 06/01/2009.

Accession Number: 20090602-0083.

Comment Date: 5 p.m. Eastern Time on Monday, June 22, 2009.

Docket Numbers: ER09-1245-000.

Applicants: Southwest Power Pool, Inc.

Description: Southwest Power Pool, Inc. submits Original Service Agreement 1808 to FERC Electric Tariff, Fifth Revised Volume 1.

Filed Date: 06/01/2009.

Accession Number: 20090602-0086.

Comment Date: 5 p.m. Eastern Time on Monday, June 22, 2009.

Docket Numbers: ER09-1246-000.

Applicants: Midwest Independent Transmission System Operator, Inc.

Description: Midwest Independent Transmission System Operator, Inc. submits proposed revisions to the Midwest ISO's Open Access Transmission, Energy and Operating Reserve Markets Tariff, FERC Electric Tariff, Third Revised Volume No 1.

Filed Date: 06/01/2009.

Accession Number: 20090602-0092.

Comment Date: 5 p.m. Eastern Time on Monday, June 22, 2009.

Docket Numbers: ER09-1247-000.

Applicants: California Independent System Operator Corporation.

Description: California Independent System Operator Corporation submits proposed amendments to the CAISO tariff to implement acceleration of the CAISO's payment timeline.

Filed Date: 06/01/2009.

Accession Number: 20090602-0093.

Comment Date: 5 p.m. Eastern Time on Monday, June 22, 2009.

Docket Numbers: ER09-1248-000.

Applicants: Midwest Independent Transmission System Operator, Inc., MidAmerican Energy Company.

Description: MidAmerican Energy Company et al. submit a proposed Attachment FF-MidAmerican Local Transmission Planning Process etc.

Filed Date: 06/01/2009.

Accession Number: 20090602-0094.

Comment Date: 5 p.m. Eastern Time on Monday, June 22, 2009.

Docket Numbers: ER09-1249-000.

Applicants: Southwest Power Pool, Inc.

Description: Southwest Power Pool, Inc. submits Original Service Agreement 1819 to its FERC Electric Tariff, Fifth Revised Volume 1.

Filed Date: 06/01/2009.

Accession Number: 20090602-0090.

Comment Date: 5 p.m. Eastern Time on Monday, June 22, 2009.

Docket Numbers: ER09-1250-000.

Applicants: Southwest Power Pool, Inc.

Description: Southwest Power Pool, Inc. submits an executed Large Generator Interconnection Agreement between SPP as Transmission Provider, et al. as Interconnection Customer, and Elk Falls Wind, LLC et al.

Filed Date: 06/01/2009.

Accession Number: 20090602-0082.

Comment Date: 5 p.m. Eastern Time on Monday, June 22, 2009.

Docket Numbers: ER09-1252-000.

Applicants: Midwest Independent Transmission System Operator Inc., MidAmerican Energy Company.

Description: Midwest Independent Transmission System Operator, Inc. et al. submits Second Revised Sheet 1854 et al. to FERC Electric Tariff, Fourth Revised Volume 1, to be effective 9/1/09.

Filed Date: 06/01/2009.

Accession Number: 20090602-0085.

Comment Date: 5 p.m. Eastern Time on Monday, June 22, 2009.

Docket Numbers: ER09-1253-000.

Applicants: Midwest Independent Transmission System Operator, Inc.

Description: Midwest Independent Transmission System Operator, Inc. submits revisions to Attachment P of their Open Access Transmission, Energy and Operating Reserve Markets Tariff, FERC Electric Tariff, Third Revised Volume No 1.

Filed Date: 06/01/2009.

Accession Number: 20090602-0087.

Comment Date: 5 p.m. Eastern Time on Monday, June 22, 2009.

Docket Numbers: ER09-1254-000.

Applicants: Southwest Power Pool, Inc.

Description: Southwest Power Pool, Inc. submits amendments to its Open Access Transmission Tariff to reform its generation interconnection procedures to increase the efficiency of the generation interconnection process, etc.

Filed Date: 06/01/2009.

Accession Number: 20090602-0091.

Comment Date: 5 p.m. Eastern Time on Monday, June 22, 2009.

Docket Numbers: ER09-1255-000.

Applicants: Southwest Power Pool, Inc.

Description: Southwest Power Pool, Inc. submits an unexecuted non-conforming Large Generator interconnection Agreement between SPP as Transmission Provider, et al. as Interconnection Customers.

Filed Date: 06/01/2009.

Accession Number: 20090602-0088.

Comment Date: 5 p.m. Eastern Time on Monday, June 22, 2009.

Docket Numbers: ER09-1258-000.

Applicants: Southwest Power Pool, Inc.

Description: Southwest Power Pool, Inc. submits an executed Large Generator Interconnection Agreement with Southwestern Public Service Company, a wholly owned subsidiary of Xcel Energy, Inc. etc.

Filed Date: 06/01/2009.

Accession Number: 20090603-0089.

Comment Date: 5 p.m. Eastern Time on Monday, June 22, 2009.

Docket Numbers: ER09-1259-000.

Applicants: Southern California Edison Company.

Description: Southern California Edison Company submits revised rate sheets for the Service Agreement for Wholesale Distribution Service dated 7/1/08 and the Added Facilities Agreement with City of Colton, CA.

Filed Date: 06/02/2009.

Accession Number: 20090603-0088.

Comment Date: 5 p.m. Eastern Time on Tuesday, June 23, 2009.

Take notice that the Commission received the following PURPA 210(m)(3) filings:

Docket Numbers: QM09-5-000.

Applicants: MidAmerican Energy Company.

Description: Application of MidAmerican Energy Company to Terminate PURPA Purchase Obligation.

Filed Date: 06/02/2009.

Accession Number: 20090602-5122.

Comment Date: 5 p.m. Eastern Time on Tuesday, June 30, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-15259 Filed 6-26-09; 8:45 am]

BILLING CODE 6717-01-P